DEPARTMENT OF THE INTERIOR

National Park Service

[NPS-WASO-CONC-15093; PPMVSCS1Y.Y00000, PPWOBSADC0]

Sole Source Concession Contract for Gateway National Recreation Area, NY

AGENCY: National Park Service, Interior.

ACTION: Notice of proposed award of sole source concession contract for Gateway National Recreation Area.

SUMMARY: Pursuant to 36 CFR 51.25, public notice is hereby given that the National Park Service proposes to award a sole source concession contract for the conduct of certain visitor services within Gateway National Recreation Area, New York for a term not to exceed 5 years. The visitor services include marina operations and dry storage for boats at Great Kills Marina. This action is necessary to avoid interruption of visitor services.

DATES: The term of the temporary concession contract will commence (if awarded) no earlier than 60 days from the publication of this notice.

FOR FURTHER INFORMATION CONTACT: Jo A. Pendry, Acting Chief, NPS Commercial Services Program, 1201 Eye Street NW., 11th floor, Washington, DC 20005, Telephone (202) 513-7156.

SUPPLEMENTARY INFORMATION: The Director of the National Park Service (NPS) may award a contract non-competitively (“Sole Source” Contracts) upon a determination that extraordinary circumstances exist under which compelling and equitable considerations require the award of the contract to a particular qualified person in the public interest (36 CFR 51.25).

The extraordinary circumstance in this instance was precipitated by Superstorm Sandy, which destroyed the water-based portion of the Great Kills Marina in October 2012, washing away the docks, slips, and a substantial number of pilings. The storm also caused severe damage to the bulkhead. The NPS requires the marina structures used under this contract to be temporary in nature, and that the concessioner coordinate closely with the NPS for construction of the temporary marina, a project which is already underway. These factors also contribute to the extraordinary circumstances that allow for a sole source concession contract.

The NPS has determined that Marinas of the Future, Inc., is a “qualified person” as defined by 36 CFR 51.3, and has determined that compelling and equitable considerations exist with Marinas of the Future, Inc.'s funding for the construction project, its cooperation in coordinating the project, and its waiver of any potential leasehold surrender interest in the temporary marina.

The NPS has determined that a sole source concession contract is in the public interest because it is the authorization most likely to allow interruption of visitor services to be avoided.

This action is issued pursuant to 36 CFR 51.25. This is not a request for proposals.

Dated: August 28, 2014.
Jonathan B. Jarvis,
Director, National Park Service.

[FR Doc. 2014-21018 Filed 9-9-14; 8:45 am]

BILLING CODE 4312-53-P